DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention's (CSAP) Drug Testing Advisory Board (DTAB) will convene in open session in person and via web conference on June 4th, 2024, from 10:00 a.m. EST to 5:00 p.m. EST and in closed session on June 5th, 2024 from 9:00 a.m. EST to 12:00 p.m. EST.

The board will meet in open-session June 4, 2024, from 10:00 a.m. EST to 5:00 p.m. EST to discuss the Mandatory Guidelines for Federal Workplace Drug Testing Programs, hear updates from the Nuclear Regulatory Commission, and discuss the availability of FDA 510(k) cleared assays and urine verses oral fluid prevalence data and specimen validity and biomarker testing. Presentations include one by Faye Caldwell on industry moving parts pertaining to Oral Fluid implementation and another by Dr. Edward Cone regarding Johns Hopkins University study updates.

The board will meet in closed session on June 5, 2024, from 9:00 a.m. EST to 12:00 p.m. EST to discuss specimen validity testing data, challenges to Oral Fluid testing and the status of the Hair Mandatory Guidelines. All of these topics require input and discussion from Board Members as to the next steps of Federal Workplace Drug Testing. The DTAB meeting on June 5, 2024, from 9:00 a.m. EST to 12:00 p.m. EST, is closed to the public, as determined by the Assistant Secretary for Mental Health and Substance Use, SAMHSA, in accordance with 5 U.S.C. 552b(c)(9)(B) and 5 U.S.C. App. 2, Section 10(d).

Meeting registration information can be completed at https://snacregister.samhsa.gov/. Web conference and call information will be sent after completing registration. Meeting information and a roster of DTAB members may be obtained by accessing the SAMHSA Advisory Committees website, https://www.samhsa.gov/about-us/advisory-councils/meetings, or by contacting the Designated Federal Officer, Lisa Davis.

Committee Name: Substance Abuse and Mental Health Services Administration Center for Substance Abuse Prevention Drug Testing Advisory Board.

Dates/Time/Type: June 4, 2024, from 10:00 a.m. EST to 5:00 p.m. EST: OPEN; June 5, 2024, from 9:00 a.m. EST to 12:00 p.m. EST: CLOSED.

Place: Substance Abuse and Mental Health Services Administration, 5600 Fishers Lane, Rockville, MD 20857.

To Submit Comments: Please send comments in writing at least 7 days prior to the meeting to the to the following email: DFWP@samhsa.hhs.gov.

Contact: Lisa S. Davis, M.S, Social Science Analyst, Center for Substance Abuse Prevention, 5600 Fishers Lane, Rockville, Maryland 20857, Telephone: (240) 276-1440, Email: Lisa.Davis@samhsa.hhs.gov.

Anastasia Flanagan,
Public Health Advisor, Division of Workplace Programs.

[FR Doc. 2024-09047 Filed 4-26-24; 8:45 am]

BILLING CODE 4162-20-P